DEPARTMENT OF THE INTERIOR

Bureau of Land Management

[WY-100-08-1610-DU]

Notice of Availability of the Draft Buffalo Resource Management Plan Amendment and Fortification Creek Management Area Environmental Assessment, Wyoming

AGENCY: Bureau of Land Management, Interior.

ACTION: Notice of availability.

SUMMARY: In accordance with the National Environmental Policy Act of 1969 and the Federal Land Policy and Management Act of 1976, the Bureau of Land Management (BLM) has prepared a Draft Resource Management Plan Amendment and Environmental Assessment (RMPA/EA) for the Buffalo Field Office (BFO) and by this notice is announcing the opening of the comment period for the Draft Buffalo RMPA and Fortification Creek Management Area EA. The BLM also announces the availability of information regarding a proposed Area of Critical Environmental Concern (ACEC) designation considered in the Draft RMPA/EA.

DATES: To assure that comments will be considered, the BLM must receive written comments on the Draft RMPA/EA within 60 days following the date that this notice appears in the Federal Register.

ADDRESSES: You may submit comments by any of the following methods:

• Web site: http://www.blm.gov/wy/st/en/info/NEPA/bfodocs/fortification_creek.html

• E-mail: Fort_Crk_WYMail@blm.gov;

• Fax: (307) 684-1122;

• Mail: Buffalo RMP Amendment/Fortification Creek EA, BLM Buffalo Field Office, 1425 Fort Street, Buffalo, WY 82834; or

• By personal delivery to the Buffalo Field Office or at a BLM-hosted public meeting.

Copies of the Draft RMPA/EA were sent to affected Federal, State, and local government agencies and interested parties. There are a limited number of hard copies available upon request. Copies of the Draft RMPA/EA are available in the Buffalo Field Office at the above address and at the following location:

• Bureau of Land Management, Wyoming State Office, 5353 Yellowstone Road, Cheyenne, Wyoming 82003.

FOR FURTHER INFORMATION CONTACT: Thomas Bills, Buffalo RMPA Team Leader, BLM Buffalo Field Office, 1425 Fort Street, Buffalo, WY 82834; or by telephone at 307-684-1133.

SUPPLEMENTARY INFORMATION: The following descriptions of alternatives considered in the Draft Buffalo RMPA and Fortification Creek EA have been included to provide context for reviewing the proposed ACECs. The Draft RMPA/EA documents the direct, indirect, and cumulative environmental impacts of three alternatives for management of BLM-administered public lands within the Fortification Creek Management Area of the BFO. Three alternatives are analyzed in detail:

1. Alternative 1 (No Action Alternative): Continues the existing management direction; no ACECs;

2. Alternative 2: Establishes an ACEC based on crucial elk habitats (52,069 acres; over 55 percent public surface); and

3. Alternative 3: Establishes an ACEC based on a citizen proposal (33,757 acres; mostly public surface).

There are no ACECs in the existing BFO land use plan. As proposed in the Draft RMPA/EA, there is potential for designation of a Fortification Creek ACEC in both Alternative 2 and 3. Values of concern include steep slopes, erosive soils, elk habitat, cultural resources, and visual resource management.

Proposed ACEC Resource—Use Limitations
Alternative 2: Crucial Elk Habitat ACEC 52,069 Acres | Alternative 3: Citizen Proposed ACEC 33,757 Acres
Performance-based, phased coalbed natural gas (CBNG) development occurs by geographic area | Same as Alternative 2.
Surface disturbance is not allowed on areas of highly erosive soils and/or slopes of 25 percent or more | Same as Alternative 2.
After interim CBNG reclamation, there is an up to two-year rest period from livestock grazing | After interim CBNG reclamation, there is a one-year rest period from livestock grazing.
Direct discharge of water to drainages is permissible, with subsequent monitoring and mitigation of downstream impacts on lease | No direct discharge of water is allowed into ephemeral or intermittent drainages.
Reservoirs and ancillary CBNG facilities, including compressors, are located outside of yearlong elk range | Reservoirs and ancillary CBNG facilities, including compressors, are located outside of elk crucial winter range and elk calving areas.
There is a winter timing limitation for surface-disturbing and disruptive activities from November 15 through April 30 in elk crucial winter range as well as a timing limitation for surface-disturbing and disrupting activities from May 1 through June 30 in elk calving ranges | There is no winter timing limitation in elk crucial winter range but there is a timing limitation from May 1 through June 30 in elk calving ranges.
CBNG well metering and monitoring/maintenance activities are restricted to weekly visitation in 1) elk crucial winter range from November 15 through April 30 and 2) elk calving areas from May 1 through June 30 | CBNG well metering and monitoring/maintenance activities are prohibited in 1) elk crucial elk winter range from November 15 through April 30 and 2) elk calving areas from May 1 through June 30.
Allow for no net road density change from BLM base data to conserve elk security habitat | Allow road density change from BLM base data to conserve 80 percent elk security habitat.
Overhead power on BLM surface along existing corridors is allowed | Same as Alternative 2.

When commenting, please include reference to either the page or section in the Draft RMPA/EA to which the comment applies. To facilitate analysis of comments and information submitted, BLM encourages commenters to submit comments in an electronic format.

Please note that public comments and information submitted including names, street addresses, and email addresses of respondents will be available for public review and disclosure at the above address during regular business hours (8 a.m. to 4 p.m.), Monday through Friday, except holidays. Before including your address, phone number, e-mail address, or other personal identifying information in your comment, you should be aware that your entire comment—including your personal identifying information—may be made publicly available at any time. While you can ask us in your comment to withhold your personal identifying information from public review, we cannot guarantee that we will be able to do so.

Donald A. Simpson,
Acting State Director.

[FR Doc. E8-18200 Filed 8-6-08; 8:45 am]

BILLING CODE 4310-22-P